DEPARTMENT OF AGRICULTURE

Forest Service

San Juan National Forest; Colorado; Durango Mountain Resort 2004 Master Development Plan

AGENCY: Forest Service, USDA.

ACTION: Notice of intent to prepare an environmental impact statement.

SUMMARY: The USDA Forest Service will prepare an Environmental Impact Statement (EIS) to disclose the anticipated environmental effects of the Durango Mountain Resort (DMR) 2004 Master Development Plan. The MDP includes plans to upgrade and expand DMR within the existing Special Use Permit (SUP) area to achieve a balance of guest service facilities and skiing opportunities with existing and proposed visitation, thereby enhancing the quality of the recreation experience.

The major aspects of the Proposed Action include:

• Replace existing lifts 2 and 8 with higher capacity lifts along their existing alignments, and shorten Lift 6 along its same alignment while utilizing the same lift equipment.

• Install one six-person lift (Lift 11), five three or four-person chairlifts (lists 12, 13, 14, 16 and 17), one surface beginner lift (Lift 15), and three lateral surface (transfer lifts—T1, T2, and T3).

• Construct new roads to access Lift 11 top terminal (1,000 feet), Lift 2 bottom terminal (250 feet), Lift 14 top terminal (800 feet), and Lift 16 bottom terminal (200 feet). Bury power line from the top of Lift 4, down Salvation trail to the base of Lift 11, and along lifts T2 and T3 to service new lifts.

• Create 17 new trails primarily in the areas associated with new lifts to improve the overall terrain distribution by skier ability level and to better meet the skier market demand.

• Improve four trails within the existing trail network and develop two gladed areas.

• Re-route the existing snowmobile access route.

• Install snowmaking infrastructure, make snow on the first 400 feet of the proposed re-route, and groom the re-route periodically to create a smooth ridable surface for snowmobile riders of all ability levels.

• Develop a snowmobile parking/staging area along Hermosa Park Road, north of Purgatory Village on the east side of Highway 550, which would accommodate cars, trucks, and trailers.

• Relocate the existing snowmobile outfitter and guide to the top of the Twilight Lift (Chair 4).

• Expand snowmaking coverage on 14 existing trails and two proposed trails (detailed below) by approximately 149 acres for a resort total of 364 acres.

Styx

Lower Hades

Lower Catharsis

Mercy

The Bank

Upper Hermosa

Angel's Tread

Columbine

Divinity

Pinkerton Toll Road

Nirvana

Peace

Dead Spike

Legends

Proposed Run

Proposed Snowmobile Re-route

• Expand the existing Powderhouse Restaurant by approximately 11,000 square feet to include a restaurant with 419 additional seats, restrooms, a ski school desk, retail services, and public lockers. Expand the on-site septic system.

• Expand the existing Dante's Restaurant by 1,200 square feet to include a restaurant with 473 additional seats and guest services similar to those at the Powderhouse. This facility would continue to operate during the winter season and is proposed for summer use as well. Re-drill two existing wells to produce a higher water flow for domestic water needs. Upgrade the on-site septic system.

• Construct a new 13,500 square foot lodge adjacent to the top terminal of Twilight Lift (#4) to include a 444-seat restaurant, restrooms, a ski school desk, retail services, and public lockers. This facility is proposed for winter and summer use. Haul domestic water from existing storage tanks or proposed well and develop an on-site septic system.

• Drill one additional well along the Pinkerton Toll Road ski trail to provide additional domestic water for the resort.

• Double the size of the aboveground fuel storage tanks at the mid-mountain maintenance building.

DATES: Comments concerning the scope of the analysis must be received by March 18, 2004.

ADDRESSES: Written comments concerning this notice should be addressed to Richard Speegle at the San Juan Public Lands Center, 15 Burnett Court, Durango, CO 81301. Comments may also be sent via e-mail to richard_speegle@co.blm.gov or via facsimile to (970) 375-1243.

FOR FURTHER INFORMATION CONTACT: Richard Speegle, Supervisory Recreation Planner, at the Public Lands Center via telephone at (970) 375.3310. Individuals who use telecommunication devices for the deaf (TDD) may call the Federal Information Relay Service (FIRS) at 1-800-877-8339 between 8 a.m. and 8 p.m., Eastern Standard Time, Monday through Friday.

SUPPLEMENTARY INFORMATION: The Proposed Action addresses issues related to the recreation experience. Presently, alpine skiing/snowboarding and other resort activities are provided to the public through a Special Use Permit (SUP) issued by the Forest Service and administered by the San Juan National Forest. All elements of the proposal remain within the existing SUP boundary area. The proposed improvements are consistent with the San Juan National Forest Land and Resource Management Plan (Forest Plan). The proposed improvements are considered necessary in light of current resort deficiencies and projected future visitation.

Purpose and Need for Action

The Forest Service and Durango Mountain Resort (DMR) cooperatively identified a purpose for this proposal, which is to upgrade and expand DMR within the existing Special Use Permit (SUP) are to achieve a balance of guest service facilities and skiing opportunities with existing and proposed visitation, thereby enhancing the quality of the recreation experience.

Responsible Official: The responsible official is Mark Stiles, Forest Supervisor for the San Juan National Forest, Public Land Center, 15 Burnett Court, Durango, CO 81301. The responsible official wll document the decision and reasons for the decision in a Record of Decision. That decision will be subject to appeal under 36 CFR part 215 or part 251.

Nature of Decision To Be Made

Based on the analysis that will be documented in the forthcoming EIS, the responsible official for this project, the Forest Supervisor of the San Juan National Forest, will decide whether or not to implement, in whole or in part, the Proposed Action or another alernative developed by the Forest Service.

Scoping Process

Public questions and comments regarding this proposal are an integral part of this environmental analysis process. Comments will be used to identify issues and develop alternatives to DMR's proposal. To assist the Forest Service identifying and considering issues and concerns on the proposed action, comments should be as specific as possible.

An open house will be held on Wednesday, March 3, 2004 from 4:30 pm until 8:30 pm at the San Juan Lands Center. Input provided by interested and/or affected individuals, organizations and governmental agencies will be used to identify resource issues that will be analyzed in the Draft EIS. The Forest Service will identify significant issues raised during the scoping process, and use them to formulate alternatives, prescribe mitigation measures, or analyze environmental effects.

Preliminary Issues: Identified preliminary issues include:

• Water quantity and quality.

• Wetlands.

• Wildlife and vegetation (Threatened, Endangered, and Sensitive species).

• Quality of the recreation experience.

Comment Requested

This notice of intent initiates the scoping process which guides the development of the draft environmental impact statement, including the identification of the range of alternatives to be considered. While public Participation is strictly optional at this stage, the Forest Service believes that it is important to give reviewers notice of several court rulings related to public participation in the subsequent environmental review process. First, reviewers of draft statements must structure their participation int he environmental review of the proposal so that it is meaninful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980).

Because of these court rulings, it is very important that those interested in this proposed action participate by the close of the 45 day draft environmental impact statement comment period so that substantive coments and objections are made available to the Forest Servie at a time when it can meaningfully consider them and respond to them in the final environmental impact statement. To assist the Forest Service in identifying and considering issues and concerns on the proposed action, comments on the draft environmental impact statement should be as specific as possible. It is also helpful if comments refer to specific pages or chapters of the draft statement. Comments also may address the adequacy of the draft environmental impact statement or the merits of the alternatives formulated and discussed in the statement. In addressing these points, reviewers may wish to refer to the Council on Environmental Quality regulations which implement the procedural provisions of the National Environmental Policy Act at 40 CFR 1503.3.

Dated: February 9, 2004.
Pauline E. Ellis,
Columbine District Ranger, San Juan National Forest.

[FR Doc. 04-3343 Filed 2-13-04; 8:45 am]

BILLING CODE 3410-11-M